DEPARTMENT OF TRANSPORTATION

Federal Aviation Administration

14 CFR Part 71

[Docket No. FAA-2016-9544; Airspace Docket No. 16-ASW-22]

Amendment of Class D and E Airspace for the Following Texas Towns; Sherman, TX; and Temple, TX, and Establishment of Class E Airspace, Temple, TX

AGENCY: Federal Aviation Administration (FAA), DOT.

ACTION: Final rule.

SUMMARY: This action: Amends Class D airspace at North Texas Regional Airport/Perrin Field, Sherman, TX; amends Class E airspace designated as a surface area at Draughon-Miller Central Texas Regional Airport, Temple, TX; amends Class E airspace extending upward from 700 feet above the surface at North Texas Regional Airport/Perrin Field, and Draughon-Miller Central Texas Regional Airport; and establishes Class E airspace designated as an extension at Draughon-Miller Central Texas Regional Airport. Cancellation of standard instrument approach procedures at these airports has made this action necessary for the safety and management of Instrument Flight Rules (IFR) operations at these airports. Additionally, geographic coordinates, names of airports, and a navigation aid are being adjusted to coincide with the FAA's aeronautical database.

DATES: Effective 0901 UTC, October 12, 2017. The Director of the Federal Register approves this incorporation by reference action under Title 1, Code of Federal Regulations, part 51, subject to the annual revision of FAA Order 7400.11 and publication of conforming amendments.

ADDRESSES: FAA Order 7400.11A, Airspace Designations and Reporting Points, and subsequent amendments can be viewed online at http://www.faa.gov/air_traffic/publications/. For further information, you can contact the Airspace Policy Group, Federal Aviation Administration, 800 Independence Avenue SW., Washington, DC 20591; telephone: (202) 267-8783. The Order is also available for inspection at the National Archives and Records Administration (NARA). For information on the availability of FAA Order 7400.11A at NARA, call (202) 741-6030, or go to http://www.archives.gov/federal_register/code_of_federal-regulations/ibr_locations.html.

FAA Order 7400.11, Airspace Designations and Reporting Points, is published yearly and effective on September 15.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class D airspace at North Texas Regional Airport/Perrin Field, Sherman, TX; Class E airspace designated as a surface area at Draughon-Miller Central Texas Regional Airport, Temple, TX; Class E airspace extending upward from 700 feet above the surface at North Texas Regional Airport/Perrin Field and Draughon-Miller Central Texas Regional Airport; and establishes Class E airspace designated as an extension at Draughon-Miller Central Texas Regional Airport, in support IFR operations at these airports.

History

On April 20, 2017, the FAA published in the Federal Register (82 FR 18596) Docket No. FAA-2016-9544, a notice of proposed rulemaking (NPRM) to amend Class D airspace at North Texas Regional Airport/Perrin Field, Sherman, TX; amend Class E airspace designated as a surface area at Draughon-Miller Central Texas Regional Airport, Temple, TX; amend Class E airspace extending upward from 700 feet above the surface at North Texas Regional Airport/Perrin Field and Draughon-Miller Central Texas Regional Airport; and establish Class E airspace designated as an extension at Draughon-Miller Central Texas Regional Airport. Interested parties were invited to participate in this rulemaking effort by submitting written comments on the proposal to the FAA. No comments were received.

Class D and E airspace designations are published in paragraph 5000, 6002, 6004, and 6005, respectively, of FAA Order 7400.11A, dated August 3, 2016, and effective September 15, 2016, which is incorporated by reference in 14 CFR 71.1. The Class D and E airspace designations listed in this document will be published subsequently in the Order.

Availability and Summary of Documents for Incorporation by Reference

This document amends FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

The Rule

This amendment to Title 14, Code of Federal Regulations (14 CFR) part 71 modifies:

Class D airspace within a 4.7-mile radius (reduced from a 5.0-mile radius) at North Texas Regional Airport/Perrin Field (formerly Grayson County Airport), Sherman/Denison, TX, and updates the name of the airport to coincide with the FAA's aeronautical database;

Class E airspace designated as a surface area within a 4.2-mile radius (increased from a 4.1-mile radius) at Draughon-Miller Central Texas Regional Airport (formerly Draughon-Miller Municipal Airport), Temple, TX, eliminating the extension southeast of the airport, and updates the name and geographic coordinates of the airport to coincide with the FAA's aeronautical database;

Class E airspace extending upward from 700 feet above the surface:

Within a 7.2-mile radius (increased from a 6.9-mile radius) of North Texas Regional Airport/Perrin Field (formerly Grayson County Airport), Sherman/Denison, TX, and updates the name and geographic coordinates of the airport to coincide with the FAA's aeronautical database;

Within a 6.7-mile radius of Draughon-Miller Central Texas Regional Airport (formerly Draughon-Miller Municipal Airport), Temple, TX, eliminates the extensions north and southeast of the airport, amends the extension northwest of the airport from the 6.7-mile radius to 14.4 miles (reduced from 19.5 miles), adds an extension south of the airport from the 6.7-mile radius to 10.1 miles, adds an extension southwest of the airport from the 6.7-mile radius to 9.7 miles, and updates the name and geographic coordinates of the airport and the name of the Draughon-Miller Central Texas Regional Localizer (formerly Draughon-Miller Localizer) to coincide with the FAA's aeronautical database;

And establishes Class E airspace designated as an extension to Class E surface airspace within a 4.2-mile radius of Draughon-Miller Central Texas Regional Airport, Temple, TX, with an extension southeast 7.7 miles.

Cancellation of standard instrument approach procedures at these airports prompted the FAA to conduct a review of the airspace. Controlled airspace is necessary for the safety and management of standard instrument approach procedures for IFR operations at these airports.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016, and effective September 15, 2016, is amended as follows:

Paragraph 5000 Class D Airspace.

* * * * *

ASW TX D Sherman, TX [Amended]

Sherman/Denison, North Texas Regional Airport/Perrin Field, TX

(Lat. 33°42′51″ N., long. 96°40′25″ W.)

That airspace extending upward from the surface to and including 3,300 feet MSL within a 4.7-mile radius of North Texas Regional Airport/Perrin Field. This Class D airspace area is effective during the specific dates and times established in advance by a Notice to Airmen. The effective date and time will thereafter be continuously published in the Chart Supplement.

* * * * *

Paragraph 6002 Class E Airspace Designated as Surface Areas.

* * * * *

ASW TX E2 Temple, TX [Amended]

Temple, Draughon-Miller Central Texas Regional Airport, TX

(Lat. 31°09′07″ N., long. 97°24′28″ W.)

Within a 4.2-mile radius of Draughon-Miller Central Texas Regional Airport. This Class E airspace area is effective during the specific dates and times established in advance by a Notice to Airmen. The effective date and time will thereafter be continuously published in the Chart Supplement.

* * * * *

Paragraph 6004 Class E Airspace Designated as an Extension to Class E Surface Airspace.

* * * * *

ASW TX E4 Temple, TX [New]

Temple, Draughon-Miller Central Texas Regional Airport, TX

(Lat. 31°09′07″ N., long. 97°24′28″ W.)

Temple VOR

(Lat. 31°12′34″ N., long. 97°25′30″ W.)

The airspace extending upward from the surface 1.4 miles either side of the 157° radial of the Temple VOR extending from the 4.2-mile radius to 7.7 miles southeast of Draughon-Miller Central Texas Regional Airport. This Class E airspace area is effective during the specific dates and times established in advance by a Notice to Airmen. The effective date and time will thereafter be continuously published in the Chart Supplement.

* * * * *

Paragraph 6005 Class E Airspace Areas Extending Upward From 700 Feet or More Above the Surface of the Earth.

* * * * *

ASW TX E5 Sherman, TX [Amended]

Sherman/Denison, North Texas Regional Airport/Perrin Field, TX

(Lat. 33°42′51″ N., long. 96°40′25″ W.)

Sherman Municipal Airport, TX

(Lat. 33°37′27″ N., long. 96°35′10″ W.)

That airspace extending upward from 700 feet above the surface within a 7.2-mile radius of North Texas Regional Airport/Perrin Field, and within a 6.4-mile radius of Sherman Municipal Airport.

* * * * *

ASW TX E5 Temple, TX [Amended]

Temple, Draughon-Miller Central Texas Regional Airport, TX

(Lat. 31°09′07″ N., long. 97°24′28″ W.)

Draughon-Miller Central Texas Regional Localizer

(Lat. 31°08′20″ N., long. 97°24′16″ W.)

Temple VOR

(Lat. 31°12′34″ N., long. 97°25′30″ W.)

That airspace extending upward from 700 feet above the surface within a 6.7-mile radius of Draughon-Miller Central Texas Regional Airport, and within 4 miles either side of the 157° radial of the Temple VOR extending from the 6.7-mile radius to 10.1 miles south of the airport, and within 2 miles either side of the 201° bearing from the airport from the 6.7-mile radius to 9.7 miles southwest of the airport, and within 4 miles either side of the 336° bearing of the Draughon-Miller Central Texas Regional Localizer extending from the 6.7-mile radius to 14.4 miles northwest of the airport.

Issued in Fort Worth, Texas, on July 5, 2017.
Walter Tweedy,
Acting Manager, Operations Support Group, ATO Central Service Center.

[FR Doc. 2017-14716 Filed 7-13-17; 8:45 am]

BILLING CODE 4910-13-P